DEPARTMENT OF THE INTERIOR

Fish and Wildlife Service

Endangered and Threatened Wildlife and Plants; Initiation of 5-Year Reviews of 70 Species in Idaho, Oregon, Washington, and Hawaii, and Guam

AGENCY: Fish and Wildlife Service, Interior.

ACTION: Notice of review.

SUMMARY: We, the U.S. Fish and Wildlife Service, announce the initiation of a 5-year review of 70 species under section 4(c)(2)(B) of the Endangered Species Act (Act). The purpose of a 5-year review is to ensure that the classification of a species as threatened or endangered on the List of Endangered and Threatened Wildlife and Plants is accurate and consistent with the best scientific and commercial data currently available. We are requesting submission of any such information that has become available since the original listing of each of the 70 species identified in Table 1 below. Based on the results of these 5-year reviews, we will determine whether any species should be proposed for removal from the list or its listing status should be changed pursuant to section 4(c)(2)(B) of the Act.

DATES: We must receive your information no later than June 12, 2006. However, we will continue to accept new information about any listed species at any time.

ADDRESSES: See “Public Solicitation of New Information” section for instructions on how to submit information.

FOR FURTHER INFORMATION CONTACT: For species-specific information, contact the appropriate individual named in “Public Solicitation of New Information.”

SUPPLEMENTARY INFORMATION:

Why Is a 5-year Review Conducted?

Under the Endangered Species Act (Act) (16 U.S.C. 1531 et seq.), we maintain a List of Endangered and Threatened Wildlife and Plants (List) at 50 CFR 17.11 (for animals) and 17.12 (for plants). Section 4(c)(2)(A) of the Act requires that we conduct a review of listed species at least once every 5 years. Then, on the basis of such reviews under section 4(c)(2)(B), we determine whether or not any species should be removed from the List (delisted), or reclassified from endangered to threatened or from threatened to endangered. Delisting a species must be supported by the best scientific and commercial data available and only considered if such data substantiates that the species is neither endangered nor threatened for one or more of the following reasons: (1) The species is considered extinct; (2) the species is considered to be recovered; and/or (3) the original data available when the species was listed, or the interpretation of such data, were in error (50 CFR 424.11(d)). Any change in Federal classification would require a separate rulemaking process. The regulations in 50 CFR 424.21 require that we publish a notice in the Federal Register announcing those species currently under active review. This notice announces our active review of the 70 species listed in Table 1.

Table 1.—Summary of the Listing Information for the Following 70 Species in Idaho, Oregon, Washington, Hawaii, and Guam.
Common name | Scientific name | Status | Where listed | Final listing rule
Animals:
Sucker, Warner | Catostomus warnerensis | Threatened | U.S.A. (OR) | 50 FR 39117 (27-SEP-85)
Chub, Hutton tui | Gila bicolor ssp. | Threatened | U.S.A. (OR) | 50 FR 12302 (28-MAR-85)
Chub, Borax Lake | Gila boraxobius | Endangered | U.S.A. (OR) | 47 FR 43957 (05-OCT-82)
Dace, Foskett speckled | Rhinichthys osculus ssp. | Threatened | U.S.A. (OR) | 50 FR 12302 (28-MAR-85)
Snail, Utah valvata | Valvata utahensis | Endangered | U.S.A. (ID, UT) | 57 FR 59244 (14-DEC-92)
Springsnail, Bruneau Hot | Pyrgulopsis bruneauensis | Endangered | U.S.A. (ID) | 63 FR 32981 (17-JUN-98)
Limpet, Banbury Springs | Lanx sp. | Endangered | U.S.A. (ID) | 57 FR 59244 (14-DEC-92)
Caribou, woodland | Rangifer tarandus caribou | Endangered | U.S.A. (ID, WA); Canada (SE. B.C.) | 49 FR 7390 (29-FEB-84)
Akepa, Maui (honeycreeper) | Loxops coccineus ochraceus | Endangered | U.S.A. (HI) | 35 FR 16047 (13-OCT-70)
Creeper, Oahu | Paroreomyza maculata | Endangered | U.S.A. (HI) | 35 FR 16047 (13-OCT-70)
Finch, Laysan (honeycreeper) | Telespyza cantans | Endangered | U.S.A. (HI) | 32 FR 4001 (11-MAR-67)
Kingfisher, Guam Micronesian | Halcyon cinnamomina cinnamomina | Endangered | Western Pacific Ocean U.S.A. (Guam) | 49 FR 33885 (27-AUG-84)
Nukupu‘u (honeycreeper) | Hemignathus lucidus | Endangered | U.S.A. (HI) | 32 FR 4001 (11-MAR-67), 35 FR 16047 (13-OCT-70)
Po‘ouli (honeycreeper) | Melamprosops phaeosoma | Endangered | U.S.A. (HI) | 40 FR 44151 (25-SEP-75)
Plants:
MacFarlane’s four-o'clock | Mirabilis macfarlanei | Threatened | U.S.A. (ID, OR) | 61 FR 10693 (15-MAR-96)
Liliwai | Acaena exigua | Endangered | U.S.A. (HI) | 57 FR 20772 (05-MAY-92)
Olulu | Brighamia insignis | Endangered | U.S.A. (HI) | 59 FR 9304 (02-FEB-94)
Pua 'ala | Brighamia rockii | Endangered | U.S.A. (HI) | 57 FR 46325 (08-OCT-92)
'Oha wai | Clermontia peleana | Endangered | U.S.A. (HI) | 59 FR 10305 (04-MAR-94)
Haha | Cyanea dunbariae | Endangered | U.S.A. (HI) | 61 FR 53130 (10-OCT-96
Haha | Cyanea macrostegia ssp. gibsonii [Cyanea gibsonii] | Endangered | U.S.A. (HI) | 56 FR 47686 (20-SEP-91)
Haha | Cyanea mceldowneyi | Endangered | U.S.A. (HI) | 57 FR 20772 (05-MAY-92)
Haha | Cyanea procera | Endangered | U.S.A. (HI) | 57 FR 46325 (08-OCT-92)
Haha | Cyanea undulata | Endangered | U.S.A. (HI) | 56 FR 47695 (20-SEP-91)
Ha'iwale | Cyrtandra subumbellata | Endangered | U.S.A. (HI) | 61 FR 53089 (10-OCT-96)
No common name | Delissea rhytidosperma | Endangered | U.S.A. (HI) | 59 FR 9304 (25-FEB-94)
Oha | Delissea subcordata | Endangered | U.S.A. (HI) | 61 FR 53089 (10-OCT-96)
No common name | Diellia pallida | Endangered | U.S.A. (HI) | 59 FR 9304 (25-FEB-94)
Na'ena'e | Dubautia herbstobatae | Endangered | U.S.A. (HI) | 56 FR 55770 (29-OCT-9)
Nioi | Eugenia koolauensis | Endangered | U.S.A. (HI) | 59 FR 14482 (28-MAR-9)
Hawaiian gardenia (=Na'u) | Gardenia brighamii | Endangered | U.S.A. (HI) | 50 FR 33 (21-AUG-85)
Nanu | Gardenia mannii | Endangered | U.S.A. (HI) | 61 FR 53089 (10-OCT-96)
Kio'ele | Hedyotis coriacea | Endangered | U.S.A. (HI) | 57 FR 20772 (15-MAY-92)
No common name | Hedyotis parvula | Endangered | U.S.A. (HI) | 56 FR 55770 (29-OCT-91)
Kopa | Hedyotis schlechtendahliana var. remyi | Endangered | U.S.A. (HI) | 64 FR 48307 (03-SEP-9)
Clay's hibiscus | Hibiscus clayi | Endangered | U.S.A. (HI) | 59 FR 9304 (25-FEB-94)
Hau kuahiwi | Hibiscadelphus giffardianus | Endangered | U.S.A. (HI) | 61 FR 53137 (10-OCT-96)
Hau kuahiwi | Hibiscadelphus hualalaiensis | Endangered | U.S.A. (HI) | 61 FR 53137 (10-OCT-96)
Kula wahine noho | Isodendrion pyrifolium | Endangered | U.S.A. (HI) | 59 FR 10305 (04-MAR-94)
Kohe malama malama o kanaloa | Kanaloa kahoolawensis | Endangered | U.S.A. (HI) | 64 FR 48307 (03-SEP-99)
Cooke's koki'o | Kokia cookei | Endangered | U.S.A. (HI) | 44 FR 62470 (30-OCT-79)
Kamakahala | Labordia cyrtandrae | Endangered | U.S.A. (HI) | 61 FR 53089 (10-OCT-96)
Kamakahala | Labordia triflora | Endangered | U.S.A. (HI) | 64 FR 48307 (03-SEP-99)
No common name | Lobelia monostachya | Endangered | U.S.A. (HI) | 61 FR 53089 (10-OCT-96)
No common name | Lysimachia maxima | Endangered | U.S.A. (HI) | 61 FR 53130 (10-OCT-96)
Alani | Melicope adscendens | Endangered | U.S.A. (HI) | 59 FR 62346 (05-DEC-94)
Alani | Melicope mucronulata | Endangered | U.S.A. (HI) | 57 FR 20772 (15-MAY-92)
Alani | Melicope zahlbruckneri | Endangered | U.S.A. (HI) | 61 FR 53137 (10-OCT-96)
Kolea | Myrsine juddii | Endangered | U.S.A. (HI) | 61 FR 53089 (10-OCT-96)
No common name | Neraudia angulata | Endangered | U.S.A. (HI) | 56 FR 55770 (29-OCT-91)
No common name | Neraudia ovata | Endangered | U.S.A. (HI) | 61 FR 53137 (10-OCT-9)
Kulu'i | Nototrichium humile | Endangered | U.S.A. (HI) | 56 FR 55770 (29-OCT-91)
Lau 'ehu | Panicum niihauense | Endangered | U.S.A. (HI) | 61 FR 53108 (10-OCT-96)
No common name | Phyllostegia hirsuta | Endangered | U.S.A. (HI) | 61 FR 53089 (10-OCT-96)
No common name | Phyllostegia kaalaensis | Endangered | U.S.A. (HI) | 61 FR 53089 (10-OCT-96)
No common name | Phyllostegia parviflora | Endangered | U.S.A. (HI) | 61 FR 53108 (10-OCT-96)
No common name | Phyllostegia waimeae | Endangered | U.S.A. (HI) | 59 FR 9304 (25-FEB-94)
Lo'ulu | Pritchardia kaalae | Endangered | U.S.A. (HI) | 61 FR 53089 (10-OCT-96)
Lo'ulu | Pritchardia viscosa | Endangered | U.S.A. (HI) | 61 FR 53070 (10-OCT-96)
No common name | Sanicula mariversa | Endangered | U.S.A. (HI) | 56 FR 55770 (29-OCT-91)
Diamond Head Schiedea | Schiedea adamantis | Endangered | U.S.A. (HI) | 49 FR 6099 (17-FEB-84)
No common name | Schiedea kaalae | Endangered | U.S.A. (HI) | 56 FR 55770 (29-OCT-91)
No common name | Schiedea kauaiensis | Endangered | U.S.A. (HI) | 61 FR 53108 (10-OCT-96)
No common name | Silene alexandri | Endangered | U.S.A. (HI) | 57 FR 46325 (08-OCT-92)
No common name | Silene perlmanii | Endangered | U.S.A. (HI) | 56 FR 55770 (29-OCT-91)
Popolo ku mai | Solanum incompletum | Endangered | U.S.A. (HI) | 59 FR 56333 (10-NOV-94)
No common name | Stenogyne kanehoana | Endangered | U.S.A. (HI) | 57 FR 20592 (13-MAY-92)
No common name | Tetramolopium filiforme | Endangered | U.S.A. (HI) | 56 FR 55770 (29-OCT-91)
Pamakani | Viola chamissoniana ssp. chamissoniana | Endangered | U.S.A. (HI) | 56 FR 55770 (29-OCT-91)
No common name | Viola helenae | Endangered | U.S.A. (HI) | 56 FR 47695 (20-SEP-91)

What Information Is Considered in the Review?

A 5-year review considers all new information available at the time of the review. In conducting these reviews, we consider the best scientific and commercial data that has become available since the current listing determination or most recent status review, such as:

A. Species biology including, but not limited to, population trends, distribution, abundance, demographics, and genetics;

B. Habitat conditions including, but not limited to, amount, distribution, and suitability;

C. Conservation measures that have been implemented that benefit the species;

D. Threat status and trends (see five factors under heading “How Do We Determine Whether a Species is Endangered or Threatened?”); and

E. Other new information, data, or corrections including, but not limited to, taxonomic or nomenclatural changes, identification of erroneous information contained in the List, and improved analytical methods.

How Do We Determine Whether a Species Is Endangered or Threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Our assessment of these factors is required, under section 4(b)(1) of the Act, to be based solely on the best scientific and commercial data available.

What Could Happen as a Result of This Review?

If we find information concerning the 70 species listed in Table 1 indicating that a change in classification may be warranted, we may propose a new rule that could do one of the following: (a) Reclassify the species from threatened to endangered; (b) reclassify the species from endangered to threatened; or (c) remove the species from the List. If we find that a change in classification is not warranted, the species will remain on the List under its current status.

Public Solicitation of New Information

To ensure that these 5-year reviews are complete and based on the best available scientific and commercial information, we solicit new information from the public, governmental agencies, Tribes, the scientific community, environmental entities, industry, and any other interested parties concerning the status of the species.

If you wish to provide information for any species included in these 5-year reviews, submit your comments and materials to the Field Supervisors at the appropriate Fish and Wildlife Office listed below. Our practice is to make comments, including names and home addresses of respondents, available for public review during regular business hours. Respondents may request that we withhold a respondent’s identity, as allowable by law. If you wish us to withhold your name or address, you must state this request prominently at the beginning of your comment. To the extent consistent with applicable law, we will make all submissions from organizations or businesses, and from individuals identifying themselves as representatives or officials of organizations or businesses, available for public inspection in their entirety. Comments and materials received will be available for public inspection, by appointment, during normal business hours at the offices where the comments are submitted.

For the species under review, submit information and direct species specific questions to the addresses and individuals as follows:

For the Warner sucker, Hutton tui chub, Borax Lake chub, and the Foskett speckled dace, submit information to the following address: Field Supervisor, Attention: 5-Year Review, U.S. Fish and Wildlife Service, Bend Field Office, 20310 Empire Avenue, Suite A 100, Bend, OR 97701, or at FW1OR5yearReview@fws.gov. For information concerning these species, contact Alan Mauer at 541-383-7146.

For the Bruneau hot springsnail, Banbury Springs limpet (lanx), MacFarlane's four-o'clock, and the Utah valvata snail, submit information to the following address: Field Supervisor, Attention: 5-Year Review, U.S. Fish and Wildlife Service, Snake River Fish and Wildlife Office, 1387 South Vinnell Way, Suite 368, Boise, ID 83709, or at fws1srbocomments@fws.gov. For information concerning these species, contact Susan Burch at 208-378-5262.

For the Woodland caribou (Selkirk Mountain), submit information to the following address: Field Supervisor, Attention: 5-Year Review, U.S. Fish and Wildlife Service, Upper Columbia Fish and Wildlife Office, 11103 E. Montgomery Drive, Spokane, WA 99206, or at fw1caribou@fws.gov. For information concerning these species, contact Suzanne Audet at 509-893-8002.

For the Hawaiian and Guam species, submit information to the following address: Field Supervisor, Attention: 5-Year Review, U.S. Fish and Wildlife Service, Pacific Islands Fish and Wildlife Office, 300 Ala Moana Buld., Room 3-122, Honolulu, HI 96850, or at pifwo-5yr-review@fws.gov. For information concerning these species, contact Gina Shultz at 808-792-9400.

Authority

This document is published under the authority of the Endangered Species Act of 1973, as amended (16 U.S.C. 1531 et seq.).

Dated: April 4, 2006.
David J. Wesley,
Acting Regional Director, Region 1, U.S. Fish and Wildlife Service.

[FR Doc. E6-5251 Filed 4-10-06; 8:45 am]

BILLING CODE 4310-55-P